DEPARTMENT OF COMMERCE

Submission for OMB Review; Comment Request

The Department of Commerce (DOC) has submitted to the Office of Management and Budget (OMB) for clearance the following proposal for collection of information under provisions of the Paperwork Reduction Act (44 U.S.C. Chapter 35).

Agency: Bureau of Industry and Security (BIS).

Title: Chemical Weapons Convention Declaration and Report Handbook and Forms.

Agency Form Number: Form 1-1, Form 1-2, Form 1-2A, Form 1-2B, etc.

OMB Approval Number: 0694-0091.

Type of Request: Extension of a currently approved collection of information.

Burden: 10,811 hours.

Average Time per Response: 10 minutes-31 hours per response.

Number of Respondents: 861 respondents.

Needs and Uses: This information is required for the United States to comply with the Chemical Weapons Convention (CWC), an international arms control treaty. The Chemical Weapons Convention Implementation Act of 1998 and Commerce Chemical Weapons Convention Regulations (CWCR) specify the rights, responsibilities and obligations for submission of declarations, reports and inspections.

Affected Public: Individuals, businesses or other for-profit institutions.

Respondent's Obligation: Required.

OMB Desk Officer: David Rostker.

Copies of the above information collection proposal can be obtained by calling or writing Diana Hynek, DOC Paperwork Clearance Officer, (202) 482-0266, Department of Commerce, Room 6625, 14th and Constitution Avenue, NW., Washington, DC 20230.

Written comments and recommendations for the proposed information collection should be sent within 30 days of publication of this notice to David Rostker, OMB Desk Officer, e-mail address, David_Rostker@omb.eop.gov, or fax number, (202) 395-7285.

Dated: May 23, 2006.
Madeleine Clayton,
Management Analyst, Office of the Chief Information Officer.

[FR Doc. E6-8210 Filed 5-26-06; 8:45 am]

BILLING CODE 3510-DT-P